DEPARTMENT OF ENERGY

Federal Energy Regulatory Commission

[Docket No. RP01-90-000]

Mojave Pipeline Company; Notice of Tariff Filing

November 15, 2000.

Take notice that on November 9, 2000, Mojave Pipeline Company (Mojave), tendered for filing to become part of its FERC Gas Tariff, Second Revised Volume No. 1, Fourth Revised Sheet No. 11, with an effective date of January 1, 2001, in compliance with the Commission's order issued September 19, 2000 at Docket No. RP00-313-000.

Mojave states that the tariff sheet is being filed to revise the gas Research Institute surcharges.

Mojave states that a copy of the filing has been served upon all shippers on Mojave's system and interested state regulatory commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http.//www.ferc.fed.us/online/rims.htm (call 202-208-2222 for assistance). Comments and protests may be filed electronically via the internet in lieu of paper. See, 18 CFR 385.2001(a)(1)(iii) and the instructions on the Commission's web site at

http.//www.ferc.fed.us/efi/doorbell.htm

Linwood A. Watson, Jr.,
Acting Secretary.

[FR Doc. 00-29685 Filed 11-20-00; 8:45 am]

BILLING CODE 6717-01-M